DEPARTMENT OF DEFENSE

Department of the Navy

Record of Decision for Land Acquisition and Airspace Establishment To Support Large-Scale Marine Air Ground Task Force Live-Fire and Maneuver Training at the Marine Corps Air Ground Combat Center, Twentynine Palms, CA

AGENCY: Department of the Navy, DoD.

ACTION: Notice of Record of Decision.

SUMMARY: Pursuant to Section 102(2)(c) of the National Environmental Policy Act (NEPA) of 1969, 42 United States Code 4321-4370h, as implemented by the Council on Environmental Quality regulations, 40 Code of Federal Regulations (CFR) parts 1500-1508, the Department of Navy (DoN) NEPA regulations (32 CFR part 775), and Marine Corps Order P5090.2A (with Changes 1, 2) Marine Corps Environmental Compliance and Protection Manual, Chapter 12, the DoN, after carefully weighing the operational and environmental consequences of the proposed action in an Environmental Impact Statement (EIS), announces its decision to establish a large-scale Marine Air Ground Task Force (MAGTF) training facility at the Marine Corps Air Ground Combat Center in Twentynine Palms, California (“the Combat Center”) to accommodate a required new program of sustained, combined-arms, live-fire, and maneuver training for all elements of a Marine Expeditionary Brigade (MEB)-sized MAGTF, including full-scale MEB Exercises and associated MEB Building Block training. To accommodate the required MEB training activities, DoN, acting through the Combat Center, will: Purchase additional private and state lands adjacent to the Combat Center; request withdrawal by Act of Congress of additional public lands adjacent to the Combat Center; pursue through the Federal Aviation Administration the establishment and modification of military Special Use Airspace for proposed MEB-sized training range; and conduct the specified MEB training. Land withdrawal of more than 5,000 acres for the purposes of national defense may only be made by an Act of Congress. The DoN has selected Alternative 6, the Preferred Alternative, (with additional mitigation developed in consultation with the Bureau of Land Management [BLM]), for implementation and recommendation to Congress. Alternative 6 includes the withdrawal of public land and purchase of private and state lands collectively totaling approximately 167,971 acres west and south of the existing Combat Center. All practical means to avoid or minimize environmental harm from the Preferred Alternative that were identified in the Final EIS have been adopted.

SUPPLEMENTARY INFORMATION: The complete text of the Record of Decision is available for public viewing on the project Web site at www.29palms.marines.mil/Staff/G4InstallationsandLogistics/LandAcquisition.aspx along with the EIS. For further information, contact the 29Palms Land Acquisition/Airspace Establishment Project Manager, Marine Air Ground Task Force Training Command, Marine Corps Air Ground Combat Center, Bldg. 1554, Box 788104, Twentynine Palms, CA 92278-8104. Telephone: 760 830-3764.

Dated: February 12, 2013.
C.K. Chiappetta,
Lieutenant Commander, Office of the Judge Advocate General, U.S. Navy, Federal Register Liaison Officer.

[FR Doc. 2013-03692 Filed 2-15-13; 8:45 am]

BILLING CODE 3810-FF-P